DEPARTMENT OF TRANSPORTATION

Federal Aviation Administration

14 CFR Part 71

[Docket No. FAA-2025-2023; Airspace Docket No. 25-ANM-137]

RIN 2120-AA66

Establishment of United States Area Navigation (RNAV) Route Q-151 and Revocation of Jet Route J-517 in the Northern United States

AGENCY: Federal Aviation Administration (FAA), DOT.

ACTION: Final rule.

SUMMARY: This action establishes United States Area Navigation (RNAV) Route Q-151 and revokes Jet Route J-517 in the northern United States. The FAA is taking these actions due to the lack of navigational signal coverage, restricting usage of J-517.

DATES: Effective date 0901 UTC, May 19, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System.

History

The FAA published an NPRM for Docket No. FAA-2025-2023 in the Federal Register (90 FR 34777; July 24, 2025), proposing to establish United States Area Navigation (RNAV) Route Q-151 and revoke Jet Route J-517 in the northern United States. Interested parties were invited to participate in this rulemaking effort by submitting written comments on the proposal to the FAA. No comments were received.

Incorporation by Reference

United States Area Navigation Routes are published in paragraph 2006 and Jet Routes are published in paragraph 2004 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by establishing RNAV Route Q-151 and revoking J-517 in its entirety. The FAA is taking these actions due to the lack of navigational signal coverage restricting usage of J-157.

J-517: Prior to this final rule, Jet Route J-517 extended between the Boise, ID, Very High Frequency Omnidirectional Range (VOR)/Tactical Air Navigation (VORTAC) and the Cranbrook, BC, Canada, VOR/Distance Measuring Equipment (VOR/DME), excluding the airspace with Canada. J-517 is unavailable to aircraft between the Boise and Spokane VORTACs unless they are equipped with a RNAV system with GPS as annotated in Notice to Airmen FDC 5/7559 and FDC 5/7557. The FAA is revoking J-517 in its entirety and establishing RNAV Route Q-151 as a replacement.

Q-151: The FAA is establishing RNAV Route Q-151 as a replacement for the loss of Jet Route J-517. As established, Q-151 extends between the WINEN, UT, WP and the EDGES, ID, Fix.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of establishing RNAV route Q 151 and revoking J-517 qualifies for categorical exclusion under the National Environmental Policy Act (42 U.S.C. 4321, et seq.) and in accordance with FAA Order 1050.1G, FAA National Environmental Policy Act Implementing Procedures, paragraph B-2.5(a) which categorically excludes from further environmental impact review rulemaking actions that designate or modify classes of airspace areas, airways, routes, and reporting points (see 14 CFR part 71, Designation of Class A, B, C, D, and E Airspace Areas; Air Traffic Service Routes; and Reporting Points); and paragraph B-2.5(i), which categorically excludes from further environmental impact review the establishment of new or revised air traffic control procedures conducted at 3,000 feet or more AGL; procedures conducted below 3,000 feet AGL that do not cause traffic to be routinely routed over noise sensitive areas; modifications to currently approved procedures conducted below 3,000 feet AGL that do not significantly increase noise over noise sensitive areas; and increases in minimum altitudes and landing minima.. As such, this action is not expected to result in any potentially significant environmental impacts. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 2006 United States Area Navigation Routes.

* * * * *

Q-151 WINEN, UT to EDGES, ID [New]
WINEN, UT | WP | (Lat. 37°56′00.00″ N, long. 113°30′00.00″ W)
PICHO, UT | WP | (Lat. 39°58′00.00″ N, long. 112°35′00.00″ W)
PATIO, UT | WP | (Lat. 41°16′00.00″ N, long. 112°32′00.00″ W)
BROPH, ID | WP | (Lat. 42°43′15.71″ N, long. 114°52′31.80″ W)
Boise, ID (BOI) | VORTAC | (Lat. 43°33′10.12″ N, long. 116°11′31.65″ W)
HILIE, ID | FIX | (Lat. 47°31′05.33″ N, long. 116°41′22.93″ W)
EDGES, ID | FIX | (Lat. 49°00′00.00″ N, long. 116°31′51.36″ W)

* * * * *

Paragraph 2004 Jet Routes.

* * * * *

J-517 [Revoked]

* * * * *

Issued in Washington, DC, on February 20, 2026.
Alex W. Nelson,
Manager, Rules and Regulations Group.

[FR Doc. 2026-03649 Filed 2-23-26; 8:45 am]

BILLING CODE 4910-13-P